FEDERAL COMMUNICATIONS COMMISSION

47 CFR Part 73

[DA 01-546; MM Docket No. 99-94; RM-9532, RM 9834

Radio Broadcasting Services; Hinton, Whiting, and Underwood, IA; and Blair, NE

AGENCY: Federal Communications Commission.

ACTION: Final rule.

SUMMARY: The Commission, at the request of Sunrise Broadcasting of Nebraska, Inc., substitutes Channel 267C2 for Channel 268C3 at Blair, Nebraska, reallots Channel 267C2 from Blair to Whiting, Iowa, and modifies Station KISP(FM)'s license accordingly (RM-9834). At the request of Mountain West Broadcasting, we dismiss the petition proposing the allotment of Channel 267A at Hinton, Iowa (RM-9532). See 64 FR 15712, April 1, 1999. At the request, of Sunrise Broadcasting of Nebraska, Inc., we also dismiss the proposal to allot Channel 268A at Underwood, Iowa, as the community's first local aural transmission service. Channel 267C2 can be allotted to Whiting in compliance with the Commission's minimum distance separation requirements with a site restriction of 18.4 kilometers (11.2 miles) northeast at Station KISP(FM)'s requested site. The coordinates for Channel 267C2 at Whiting are North Latitude 42-16-20 West Longitude 96-02-27.

DATES: Effective April 16, 2001.

FOR FURTHER INFORMATION CONTACT: Sharon P. McDonald, Mass Media Bureau, (202) 418-2180.

SUPPLEMENTARY INFORMATION: This is a synopsis of the Commission's Report and Order, MM Docket No. 99-94, adopted February 21, 2001, and released March 2, 2001. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—RADIO BROADCAST SERVICES

1. The authority citation for part 73 continues to read as follows:

Authority: 47 U.S.C. 54, 303, 334, and 336.

§ 73.202 [Amended]

2. Section 73.202(b), the Table of FM Allotments under Iowa, is amended by adding Whiting, Channel 267C2.

3. Section 73.202(b), the Table of FM Allotments under Nebraska, is amended by removing Channel 268C3 at Blair.

Federal Communications Commission.
John A. Karousos,
Chief, Allocations Branch, Policy and Rules Division, Mass Media Bureau.

[FR Doc. 01-6407 Filed 3-14-01; 8:45 am]

BILLING CODE 6712-01-U